NUCLEAR REGULATORY COMMISSION

[Docket No. 030-29879]

Notice of Availability of Environmental Assessment and Finding of No Significant Impact for License Amendment Request to Byproduct Materials License 29-28005-01 for the Sarnoff Corporation, Princeton, NJ

AGENCY: Nuclear Regulatory Commission.

ACTION: Issuance of Environmental Assessment and Finding of No Significant Impact for License Amendment.

FOR FURTHER INFORMATION CONTACT: Dennis Lawyer, Health Physicist, Commercial and R&D Branch, Division of Nuclear Materials Safety, Region I, 475 Allendale Road, King of Prussia, PA 19406. Telephone: (610) 337-5303; fax number: (610) 337-5366; e-mail: Dennis.Lawyer@nrc.gov.

SUPPLEMENTARY INFORMATION:

I. Introduction

The U.S. Nuclear Regulatory Commission (NRC) is considering the issuance of a license renewal to Byproduct Materials License No. 29-28005-01. This license is held by The Sarnoff Corporation (Licensee) in Princeton, New Jersey. As part of its license renewal, the Licensee has requested an exemption from the requirement in 10 CFR 30.32(g) to list sealed sources by their manufacturer and model number as registered under the provisions of 10 CFR 32.210. The Licensee requested this exemption in a letter dated June 2, 2006. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The license renewal, including the approval of the exemption request, will be issued to the Licensee following the publication of this FONSI and EA in the Federal Register.

II. Environmental Assessment

Identification of Proposed Action

The proposed action would renew License No. 29-28005-01, including approval of the Licensee's request for exemption submitted on June 2, 2006. License No. 29-28005-01 was issued on June 16, 1987, pursuant to 10 CFR Part 30, and has been amended periodically since that time. This license authorized the Licensee for research and development as defined in 10 CFR 30.4.

On June 24, 2005, the Licensee submitted its renewal application for License No. 29-28005-01. In a letter dated February 1, 2006, discussing its unregistered americium-241 source, the Licensee referenced the guidance in NUREG 1556, Volume 3 (Revision 1) which states that that sealed sources containing 10 microcuries or less of alpha-emitting radioactive material and 100 microcuries or less of beta and/or gamma emitting materials were not required to be registered. In a letter dated June 2, 2006, in response to NRC questions contained in an e-mail dated May 16, 2006, the Licensee explicitly requested an exemption from the requirement in 10 CFR 30.32(g) to list its americium-241 source by a manufacturer and model number as registered under the provisions of 10 CFR 32.210. The unregistered americium-241 sealed source (a gamma emitting source of approximately 11 microcuries) possessed by the Licensee meets the criterion in NUREG 1556, Volume 3 (Revision 1) which states that that sealed sources containing 100 microcuries or less of gamma emitting materials were not required to be registered. In addition, the Licensee stated that granting this exemption will enable the Licensee to continue to make calibrations of its equipment in a timely manner, avoiding the need to send equipment out for calibration. The Licensee further stated that granting this exemption would avoid the need and risk of bringing a calibration source to the site for instruments that cannot be moved. The Licensee also stated that a replacement americium-241 source that would meet the current registration requirements would likely be a larger source with an increased risk of handling.

Need for the Proposed Action

The Licensee has used this source for many years without incident. This exemption is needed to authorize the Licensee to continue to possess this source.

Technical Analysis of the Proposed Action

10 CFR 30.11(a) states that the Commission may grant such exemptions from the requirements of the regulations as it determines are authorized by law and will not endanger life or property or the common defense and security and are otherwise in the public interest. The NRC staff has analyzed the Licensee's request to be authorized to receive and take possession of sealed sources and devices which have not been registered with the NRC under 10 CFR 32.210 or with an Agreement State. The NRC staff considered that the Licensee is qualified by sufficient training and experience and has sufficient facilities and equipment to handle these sources and devices. Furthermore, NRC inspections have evaluated the Licensee's performance and determined that the Licensee has safely handled these unregistered sources for many years. Accordingly, the NRC staff has concluded that granting this exemption is authorized by law, will not endanger life or property or the common defense and security, and is in the public interest.

Environmental Impacts of the Proposed Action

The proposed action is largely administrative in nature. The Licensee has handled sources and devices which have not been registered by the NRC under 10 CFR 32.210, or by an Agreement State, for many years. The Licensee is qualified by sufficient training and experience and has sufficient facilities and equipment to handle these sources and devices. Approving this exemption will have no environmental impact.

Environmental Impacts of the Alternatives to the Proposed Action

Due to the largely administrative nature of the proposed action, its environmental impacts are small. Additionally, denying the exemption request would result in no change in current environmental impacts. The environmental impacts of the proposed action and the no-action alternative are therefore similar, and the no-action alternative is accordingly not further considered.

Conclusion

The NRC staff has concluded that the proposed action will not significantly impact the quality of the human environment; the NRC staff concludes that the proposed action is the preferred alternative.

Agencies and Persons Consulted

The NRC staff has determined that the proposed action is of a procedural nature, and will not affect listed species or critical habitat. Therefore, no further consultation is required under section 7 of the Endangered Species Act. The NRC staff has also determined that the proposed action is not the type of activity that has the potential to cause effects on historic properties. Therefore, no further consultation is required under section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for exemption and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. Licensee renewal application dated June 24, 2005 [ML051890490].

2. Licensee letter dated February 1, 2006 [ML060590605].

3. Licensee letter dated June 2, 2006 [ML061560252].

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at Region I, 475 Allendale Road, King of Prussia, this 10th day of September 2008.
For the Nuclear Regulatory Commission.
James P. Dwyer,
Chief, Commercial and R&D Branch, Division of Nuclear Materials Safety Region I.

[FR Doc. E8-21802 Filed 9-17-08; 8:45 am]

BILLING CODE 7590-01-P